DEPARTMENT OF COMMERCE

National Oceanic and Atmospheric Administration

Evaluation of State Coastal Management Programs

AGENCY: National Oceanic and Atmospheric Administration (NOAA), Office for Coastal Management, National Ocean Service, Commerce.

ACTION: Notice of Intent to Evaluate and Notice of Availability of Final Findings.

SUMMARY: The NOAA Office for Coastal Management announces its intent to evaluate the performance of the New York and Florida Coastal Management Programs.

The Coastal Zone Management Program (CMP) evaluations will be conducted pursuant to section 312 of the Coastal Zone Management Act of 1972, as amended (CZMA) and regulations at 15 CFR part 923, subpart L. The CZMA requires continuing review of the performance of states with respect to CMP implementation. Evaluation of a CMP requires findings concerning the extent to which a state has met the national objectives, adhered to its CMP document approved by the Secretary of Commerce, and adhered to the terms of financial assistance awards funded under the CZMA.

The evaluations will include a public meeting, consideration of written public comments and consultations with interested Federal, state, and local agencies and members of the public. When the evaluation is completed, the Office for Coastal Management will place a notice in the Federal Register announcing the availability of the Final Evaluation Findings. Notice is hereby given of the date, local time, and location of the public meeting.

Date and Time: The New York CMP public meeting will be held on Wednesday, July 8, 2015 at 4:00 p.m. local time in room #505 on the 5th floor of 1 Commerce Plaza at 99 Washington Avenue, Albany, NY.

The Florida CMP public meeting will be held on Wednesday, July 15, 2015, at 4:00 p.m. local time in Conference Rooms A and B, Marjory Stoneman Douglas Building, Florida Department of Environmental Protection, 3900 Commonwealth Blvd., Tallahassee, Florida 32399-3000.

ADDRESSES: Copies of each state's most recent performance report, as well as the Office for Coastal Management evaluation notification letter to the state, are available upon request. Written comments from interested parties regarding these programs are encouraged and will be accepted until July 24, 2015. Please direct written comments to Carrie Hall, Evaluator, Planning and Performance Measurement Program, Office for Coastal Management, NOS/NOAA, 1305 East-West Highway, 11th Floor, N/OCM1, Silver Spring, Maryland 20910, or Carrie.Hall@noaa.gov.

SUPPLEMENTARY INFORMATION: Notice is hereby given of the availability of the final evaluation findings for the Commonwealth of the Northern Mariana Islands CMP, Indiana CMP, and Apalachicola National Estuarine Research Reserve (NERR). Sections 312 and 315 of the CZMA, as amended, require a continuing review of the performance of coastal states with respect to approval of CMPs and the operation and management of NERRs. The state of Indiana and Commonwealth of the Northern Mariana Islands were found to be implementing and enforcing their federally approved coastal management programs, addressing the national coastal management objectives identified in CZMA Section 303(2)(A)-(K), and adhering to the programmatic terms of their financial assistance awards. The state of Florida was found to be adhering to programmatic requirements of the NERR System for the implementation of the Apalachicola NERR.

Copies of these final evaluation findings may be downloaded at http://coast.noaa.gov/czm/evaluations/evaluation_findings/index.html or obtained upon written request from: Carrie Hall, Evaluator, Planning and Performance Measurement Program, Office for Coastal Management, NOS/NOAA, 1305 East-West Highway, 11th Floor, N/OCM1, Silver Spring, Maryland 20910, or Carrie.Hall@noaa.gov

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov.

Dated: May 20, 2015.
Christopher C. Cartwright,
Associate Assistant Administrator for Management and CFO/CAO, Ocean Services and Coastal Zone Management National Oceanic and Atmospheric Administration.

Federal Domestic Assistance Catalog 11.419

Coastal Zone Management Program Administration

[FR Doc. 2015-12770 Filed 5-26-15; 8:45 am]

BILLING CODE 3510-08-P